DEPARTMENT OF ENERGY

North American Energy Working Group

AGENCY: Department of Energy.

ACTION: Notice of public workshop.

SUMMARY: This notice announces a public workshop sponsored by the US delegation (Department of Energy, Department of Commerce and Department of State) of the North American Energy Working Group (NAEWG) Electricity Regulatory Issues Group of Experts, and a request for comments.

DATES: The Department of Energy will host a public workshop to hear the views of U.S. stakeholders at the following date, time and location. Those planning to attend the workshop should register by calling 202 586-5125,

—February 13, 2002/9 a.m.—4 p.m./Washington, DC.Department of Energy, 1000 Independence Ave., SW, Room 1E-245

Public Participation: The workshops are open to the public. Written comments can be submitted at the workshop or to the address below on or before February 13, 2002. E-mailed comments are preferable.

ADDRESSES: Send comments to: Debra.Smith@hq.doe.gov or Debra Smith, US DOE, Office of Policy and International Affairs, PI-32, 1000 Independence Avenue, SW Washington, DC 20585.

SUPPLEMENTARY INFORMATION: President Bush and Mexican President Fox, during President Bush's visit to Mexico on February 16, 2001, and President Bush and Canadian Premier Chretien, during a subsequent visit to Washington, DC, agreed to the development of a North American Energy Initiative. The Initiative is being developed by the NAEWG. In March 2001, Secretary Abraham, Minister of Natural Resources Canada Goodale, and Mexican Secretary of Energy Martens, met in Mexico City and agreed to the overarching principles and approach that would govern the NAEWG. President Bush's National Energy Policy, released in May 2001, directed the Secretaries of Energy, State, Commerce, to engage in a dialogue with Canada and Mexico through the NAEWG.

The broad goals of the NAEWG are to foster communication and cooperation among the governments and energy sectors of the three countries; enhance North American energy trade, development and interconnections; and promote regional integration and increased energy security for the people of North America. The NAEWG agreed to three areas of work to be carried out by three Groups of Experts. One such group, the Electricity Regulatory Issues Group of Experts, was formed to examine key regulatory issues associated with North American electricity markets, such as reliability, regional transmission organizations, and transmission access. Canada led the Electricity Experts Group which drafted a discussion paper and made recommendations to the NAEWG as to further actions. One recommendation accepted by the NAEWG suggested soliciting stakeholder input regarding the Experts Group discussion paper and other issues identified in this Supplementary Information section.

The purpose of the workshop is to solicit public comments on the issues raised in the Draft Discussion Paper with a view to better enable the Group of Experts to further its work and, in particular, to solicit public comments on the following question, drafted by the Group of Experts, to facilitate discussion:

What issues present challenges to Regional Transmission Organizations with international members? Issues that should be explored by stakeholders include, but are not limited to, organization, governance, rates, reliability standards, enforcement, and dispute resolution and transmission access.

Issued in Washington, DC, on January 11, 2002.
Vicky Bailey,
Assistant Secretary, Office of Policy and International Affairs.

[FR Doc. 02-1226 Filed 1-16-02; 8:45 am]

BILLING CODE 6450-01-P